DEPARTMENT OF JUSTICE

Drug Enforcement Administration

[Docket No. DEA-392]

Bulk Manufacturer of Controlled Substances Application: Catalent CTS, LLC

ACTION: Notice of correction.

In Federal Register document (FR DOC) 2014-14123, on page 34551, third column, the second paragraph in the issue on Tuesday, June 17, 2014, make a correction by removing the following sentence from the paragraph:

In reference to drug code 7360, the company plans to import a synthetic cannabidiol.

Dated: August 11, 2014.
Joseph T. Rannazzisi,
Deputy Assistant Administrator.

[FR Doc. 2014-19447 Filed 8-15-14; 8:45 am]

BILLING CODE 4410-09-P